DEPARTMENT OF THE INTERIOR

Bureau of Land Management

[LLORB07000.L17110000.AL0000.LXSSH1060000.21X.HAG 21-0066]

Notice of Subcommittee Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) Public Lands Access Subcomittee will meet as indicated below.

DATES: The SMAC will hold a field tour on September 23, 2021, from 7 a.m. to 5:30 p.m. Pacific Time to the the Nature's Advocate, LLC, inholding in the Fish Creek area on Steens Mountain, and an in-person meeting on September 24, 2021, from 8:30 a.m. to 12:45 p.m. Pacific Time.

ADDRESSES: The meeting will be held and the field tour will commence and conclude at the Frenchglen School, 39235 OR-205, Frenchglen, Oregon, 97736. A virtual meeting may substitute for an in-person meeting depending on local health restrictions at the time of the meeting. Additional information can be found on the SMAC's website at www.blm.gov/get-involved/resource-advisory-council/near-you/oregon-washington/steens-mac.

FOR FURTHER INFORMATION CONTACT: Tara Thissell, Public Affairs Specialist, 28910 Highway 20 West, Hines, Oregon 97738; telephone: 541-573-4519; email: tthissell@blm.gov. Persons who use a telecommunications device for the deaf (TDD) may call the Federal Relay Service (FRS) at 1-800-877-8339 to contact Ms. Thissell during normal business hours. The FRS is available 24 hours a day, 7 days a week, to leave a message or question. You will receive a reply during normal business hours.

SUPPLEMENTARY INFORMATION: The SMAC was established August 14, 2001, pursuant to the Steens Mountain Cooperative Management and Protection Act of 2000 (Steens Act) (Pub. L. 106-399). The SMAC provides recommendations to the BLM regarding new and unique approaches to management of the land within the bounds of the Steens Mountain Cooperative Management and Protection Area (CMPA), recommends cooperative programs and incentives for landscape management that meet human needs, and advises the BLM on potential maintenance and improvement of the ecological and economic integrity of the area.

The SMAC's Public Lands Access Subcommittee was established in 2015 and serves to research, discuss, and evaluate any access issue in the Steens Mountain CMPA. Issues could relate to parking, hiking, motorized or non-motorized use, public to private land inholding routes and methods of travel, private to public land access by way of easement or other agreement, or purchase or exchange of public and private land for improved access and contiguous landscape. The Subcommittee reviews all aspects of any access issue, formulates suggestions for remedy, and proposes those solutions to the entire SMAC for further discussion and possible recommendation to the BLM.

On September 23, 2021, the Subcommittee will tour the Nature's Advocate, LLC, inholding in the Fish Creek area on Steens Mountain. The field tour will take all day and ATVs and/or UTVs will be utilized for the majority of the time—travel routes cannot support traditional vehicles in many places. Attending public participants must provide their own transportation at all times including traditional vehicles as road conditions allow, and ATVs or UTVs as otherwise needed, and be able to hike moderate distances of 1 to 2 miles each way across varied terrain. Attending council members, agency personnel, and public participants shall provide their own personal amenities for the duration of the field tour, including but not limited to: Food, water, appropriate hiking footwear, and sunscreen. There are no restrooms available.

Agenda items for the September 24, 2021, session include a recap and discussion of the previous day's field tour; an update from the Designated Federal Official; discussion of the Bridge Creek Area Allotment Management Plan and Environmental Impact Statement; information sharing about the Alvord Allotment Management Plan Environmental Assessment; and, an opportunity for Subcommittee members to share information from their constituents and present research. Any other matters that may reasonably come before the Subcommittee may also be included.

A public comment period is available on September 24 at 11:45 a.m. Depending on the number of people wishing to comment and the time available, the amount of time for oral comments may be limited. Sessions may end early if all business items are accomplished ahead of schedule or may be extended if discussions warrant more time. All meetings, including field tour sessions, are open to the public in their entirety.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 43 CFR 1784.4-2)

Jeffrey Rose,
District Manager.

[FR Doc. 2021-17508 Filed 8-13-21; 8:45 am]

BILLING CODE 4310-33-P